DEPARTMENT OF THE INTERIOR

National Park Service

[NPS-WASO-NAGPRA-12882: PPWOCRADN0-PCU00RP14.R50000]

Notice of Inventory Completion for Native American Human Remains and Associated Funerary Objects in the Control of the U.S. Department of the Interior, Bureau of Land Management, New Mexico State Office, Santa Fe, NM; Correction

AGENCY: National Park Service, Interior.

ACTION: Notice; Correction.

SUMMARY: The U.S. Department of the Interior, Bureau of Land Management, New Mexico State Office has corrected an inventory of human remains and associated funerary objects published in a Notice of Inventory Completion in the Federal Register on February 21, 2001. This notice corrects the minimum number of individuals and number of associated funerary objects. Lineal descendants or representatives of any Indian tribe or Native Hawaiian organization not identified in this notice that wish to request transfer of control of these human remains and associated funerary objects should submit a written request to the Bureau of Land Management, New Mexico State Office. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Land Management, New Mexico State Office, at the address in this notice by June 12, 2013.

ADDRESSES: Signa Larralde, Deputy Preservation Officer and NAGPRA Coordinator, Bureau of Land Management, New Mexico State Office, 301 Dinosaur Trail, Santa Fe, NM 87508, telephone (505) 954-2179, email slarrald@blm.gov.

SUPPLEMENTARY INFORMATION: Notice is here given in accordance with the Native American Graves Protection and Repatriation Act (NAGPRA), 25 U.S.C. 3003, of the correction of an inventory of human remains and associated funerary objects under the control of the Bureau of Land Management, New Mexico State Office, Santa Fe, NM. The human remains and associated funerary objects were removed from McKinley and Catron Counties, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (66 FR 11044-11045, February 21, 2001). A re-inventory and reassessment of collections resulted in the discovery of additional human remains and additional associated funerary objects from the sites listed in this notice. Some of the associated funerary objects published in the original notice could not be located. Finally, an Archaeological Resources Protection Act investigation resulted in the confiscation and transfer of additional human remains from the sites listed in this notice to the Bureau of Land Management, New Mexico State Office. Transfer of control of the items in this correction notice has not occurred.

Correction

In the Federal Register (66 FR 11044-11045, February 21, 2001), paragraph 4, sentence 1 is corrected by substituting the following sentence:

Between 1966 and 1967, human remains representing eight individuals were recovered from site LA 8779 in New Mexico during legally authorized excavations and collections conducted by the Cottonwood Gulch Foundation.

In the Federal Register (66 FR 11044-11045, February 21, 2001), paragraph 4, sentence 4 is corrected by substituting the following sentence:

The 28 associated funerary objects are 20 ceramic sherds, two gastropod shells, one duck effigy pot, one pottery pitcher fragment, two ceramic bowls (one nearly whole whiteware bowl and one reconstructed redware bowl), one ceramic ladle, and one lot of burned cottonwood fragments. The jet bead and yucca cord fragments previously inventoried could not be located.

In the Federal Register (66 FR 11044-11045, February 21, 2001), insert the following paragraph after paragraph 4:

During the 1960s, human remains representing two individuals were illegally removed from site LA 8779 during excavations by an unauthorized collector. These remains were confiscated by the Federal Bureau of Investigation in 2010 and their control transferred to the Bureau of Land Management, New Mexico State Office. These human remains are currently curated at the Maxwell Museum of Anthropology, University of New Mexico. No known individuals were identified. No associated funerary objects were present.

In the Federal Register (66 FR 11044-11045, February 21, 2001), paragraph 8, sentence 4 is corrected by substituting the following sentence:

The 13 associated funerary objects are one pottery bowl, one pottery pitcher, 10 olivella shell beads, and one projectile point.

In the Federal Register (66 FR 11044-11045, February 21, 2001), paragraph 10, sentence 1 is corrected by substituting the following sentence:

In 1987, human remains representing six individuals were recovered from site LA 50364 in New Mexico during legally authorized excavations and collections by Complete Archaeological Service Associates.

In the Federal Register (66 FR 11044-11045, February 21, 2001), paragraph 13, sentences 1 and 2 are corrected by substituting the following sentences:

Based on the above mentioned information, officials of the New Mexico State Office of the Bureau of Land Management have determined that, pursuant to 43 CFR 10.2 (d)(1), the human remains listed above represent the physical remains of 20 individuals of Native American ancestry. Officials of the New Mexico State Office of the Bureau of Land Management also have determined that, pursuant to 43 CFR 10.2 (d)(2), the 41 objects listed above are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Signa Larralde, Deputy Preservation Officer and NAGPRA Coordinator, Bureau of Land Management, New Mexico State Office, 301 Dinosaur Trail, Santa Fe, NM 87508, telephone (505) 954-2179, email slarrald@blm.gov by June 12, 2013. After that date, if no additional requestors have come forward, transfer of control of the human remains and associated funerary objects to the Pueblo of Acoma, New Mexico; the Hopi Tribe of Arizona; and the Zuni Tribe of the Zuni Reservation, New Mexico, may proceed.

The Bureau of Land Management, New Mexico State Office, is responsible for notifying the Hopi Tribe of Arizona; Navajo Nation, Arizona, New Mexico & Utah; Pueblo of Acoma, New Mexico; Pueblo of Jemez, New Mexico; Pueblo of Isleta, New Mexico; Pueblo of San Ildefonso, New Mexico; Pueblo of Zia, New Mexico; and the Zuni Tribe of the Zuni Reservation, New Mexico, that this notice has been published.

Dated: April 19, 2013.
Melanie O'Brien,
Acting Manager, National NAGPRA Program.

[FR Doc. 2013-11231 Filed 5-10-13; 8:45 am]

BILLING CODE 4312-50-P